DEPARTMENT OF ENERGY

Federal Energy Regulatory Commission

Combined Notice of Filings

Take notice that the Commission has received the following Natural Gas Pipeline Rate and Refund Report filings:

Filings Instituting Proceedings

Docket Numbers: RP26-321-000.

Applicants: Alliance Pipeline L.P.

Description: § 4(d) Rate Filing: Negotiated Rates—Releases 01-01-2026 to be effective 1/1/2026.

Filed Date: 12/29/25.

Accession Number: 20251229-5381.

Comment Date: 5 p.m. ET 1/12/26.

Docket Numbers: RP26-322-000.

Applicants: Enbridge (U.S.) Inc.

Description: Petition for Limited Waiver of Order No. 787, et al. of Enbridge (U.S.) Inc.

Filed Date: 12/29/25.

Accession Number: 20251229-5462.

Comment Date: 5 p.m. ET 1/12/26.

Docket Numbers: RP26-323-000.

Applicants: Florida Gas Transmission Company, LLC.

Description: Compliance filing: Annual Accounting Report on 12-30-25 to be effective N/A.

Filed Date: 12/30/25.

Accession Number: 20251230-5007.

Comment Date: 5 p.m. ET 1/12/26.

Docket Numbers: RP26-324-000.

Applicants: Columbia Gas Transmission, LLC.

Description: § 4(d) Rate Filing: Administrative Housekeeping 2025 to be effective 2/1/2026.

Filed Date: 12/30/25.

Accession Number: 20251230-5068.

Comment Date: 5 p.m. ET 1/12/26.

Docket Numbers: RP26-325-000.

Applicants: Texas Eastern Transmission, LP.

Description: § 4(d) Rate Filing: TETLP EPC FEB 2026 FILING to be effective2/1/2026.

Filed Date: 12/30/25.

Accession Number: 20251230-5119.

Comment Date: 5 p.m. ET 1/12/26.

Docket Numbers: RP26-326-000.

Applicants: National Fuel Gas Supply Corporation.

Description: § 4(d) Rate Filing: Negotiated Rate—WB McKean to be effective 1/1/2026.

Filed Date: 12/30/25.

Accession Number: 20251230-5138.

Comment Date: 5 p.m. ET 1/12/26.

Docket Numbers: RP26-327-000.

Applicants: Iroquois Gas Transmission System, L.P.

Description: § 4(d) Rate Filing: 12.30.25 Negotiated Rates—Mercuria Energy America, LLC R-7540-02 to be effective 1/1/2026.

Filed Date: 12/30/25.

Accession Number: 20251230-5289.

Comment Date: 5 p.m. ET 1/12/26.

Docket Numbers: RP26-328-000.

Applicants: Iroquois Gas Transmission System, L.P.

Description: § 4(d) Rate Filing: 12.30.25 Negotiated Rates—Freepoint Commodities LLC R-7250-51 to be effective 1/1/2026.

Filed Date: 12/30/25.

Accession Number: 20251230-5294.

Comment Date: 5 p.m. ET 1/12/26.

Docket Numbers: RP26-329-000.

Applicants: Iroquois Gas Transmission System, L.P.

Description: § 4(d) Rate Filing: 12.30.25 Negotiated Rates—Freepoint Commodities LLC R-7250-52 to be effective 1/1/2026.

Filed Date: 12/30/25.

Accession Number: 20251230-5297.

Comment Date: 5 p.m. ET 1/12/26.

Docket Numbers: RP26-330-000.

Applicants: Iroquois Gas Transmission System, L.P.

Description: § 4(d) Rate Filing: 12.30.25 Negotiated Rates—Vitol Inc. R-7495-29 to be effective 1/1/2026.

Filed Date: 12/30/25.

Accession Number: 20251230-5301.

Comment Date: 5 p.m. ET 1/12/26.

Docket Numbers: RP26-331-000.

Applicants: Iroquois Gas Transmission System, L.P.

Description: § 4(d) Rate Filing: 12.30.25 Negotiated Rates—Vitol Inc. R-7495-30 to be effective 1/1/2026.

Filed Date: 12/30/25.

Accession Number: 20251230-5304.

Comment Date: 5 p.m. ET 1/12/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: December 30, 2025.
Carlos D. Clay,
Deputy Secretary.

[FR Doc. 2025-24262 Filed 1-2-26; 8:45 am]

BILLING CODE 6717-01-P